POSTAL REGULATORY COMMISSION

[Docket No. ACR2013; Order No. 1972]

New Postal Product

AGENCY: Postal Regulatory Commission.

ACTION: Notice.

SUMMARY: The Commission is adjusting its approach to issuing a report on the Postal Service's Performance Report and Performance Plan. Previously, the Commission has included its report as part of the Annual Compliance Determination. Starting with FY 2013, the Commission will issue this report as a separate document. This order addresses related administrative steps and invites public comments.

DATES: Comments are due: March 10, 2014. Reply comments are due: March 20, 2014.

ADDRESSES: Submit comments electronically via the Commission's Filing Online system at http://www.prc.gov. Those who cannot submit comments electronically should contact the person identified in the FOR FURTHER INFORMATION CONTACT section by telephone for advice on filing alternatives.

FOR FURTHER INFORMATION CONTACT: Brian Corcoran, Acting General Counsel, at 202-789-6820.

SUPPLEMENTARY INFORMATION: Each fiscal year (FY), the Postal Service is required to prepare an annual performance plan (Performance Plan) and a report on program performance (Performance Report) pursuant to 39 U.S.C. 2803 and 2804. Pursuant to 39 U.S.C. 3652(g), on December 27, 2013, the Postal Service filed the FY 2013 Performance Report and FY 2014 Performance Plan with the Commission along with its FY 2013 Annual Compliance Report. See library reference USPS-FY13-17.¹

¹ The FY 2013 Performance Report and FY 2014 Performance Plan are included in the Postal Service's 2013 Annual Report to Congress.

The Commission is required to evaluate whether the Postal Service has met the goals established in its FY 2013 Performance Report and FY 2014 Performance Plan. See 39 U.S.C. 3653(d). It may also provide recommendations to the Postal Service “related to the protection or promotion of public policy objectives set out in” title 39. Id. In past years, the Commission's analysis of Performance Plans and Performance Reports have been included its Annual Compliance Determination (ACD).² Since the Commission's obligations under section 3653(d) are distinguishable from its annual compliance determination obligations under section 3653(b), the Commission has determined that, beginning with FY 2013, it will issue a separate report on the Postal Service's Performance Report and Performance Plan. The Commission anticipates issuing that report early in May 2014.

² See, e.g., Docket No. ACR2012, Annual Compliance Determination Report Fiscal Year 2012 at 35-46.

To accommodate that schedule, the Commission is establishing a separate comment period for the FY 2013 Performance Report and FY 2014 Performance Plan. Comments by interested persons are due no later than by March 10, 2014. Reply comments are due no later than March 20, 2014.

Kenneth E. Richardson, previously designated to serve as the Public Representative in this proceeding, will continue in that capacity.

It is ordered:

1. Comments on the Postal Service's FY 2013 Performance Report and FY 2014 Performance Plan are due no later than March 10, 2014.

2. Reply comments are due no later than March 20, 2014.

3. The Secretary shall arrange for publication of this order in the Federal Register.

By the Commission.
Ruth Ann Abrams,
Acting Secretary.

[FR Doc. 2014-01381 Filed 1-23-14; 8:45 am]

BILLING CODE 7710-FW-P